DEPARTMENT OF ENERGY

Federal Energy Regulatory Commission

[Docket No. RP01-111-000]

Chandeleur Pipe Line Company; Notice of Compliance Filing

November 22, 2000.

Take notice that on November 17, 2000, Chandeleur Pipe Line Company tendered for filing as part of its FERC Gas Tariff, Second Revised Volume No. 1, the following tariff sheets, to become effective December 20, 2000:

First Revised Sheet No. 51

Second Revised Sheet No. 52

Chandeleur Pipe Line Company asserts that the purpose of this filing is to comply with the Commission's Order No. 587-L, Docket No. RM96-1, et al. issued June 30, 2000, 91 FERC ¶ 63,350, and the Commission's Order issued October 27, 2000, Docket No. RM96-1-014 et al., 93 FERC ¶ 61,093.

Chandeleur is filing tariff sheets implementing Imbalance Netting and Trading tariff provisions per 18 CFR 284.12(c)(2)(ii) adopted in Commission Order No. 587-G, issued April 16, 1998, 83 FERC ¶ 61,029.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30359 Filed 11-28-00; 8:45 am]

BILLING CODE 6717-01-M